SMALL BUSINESS ADMINISTRATION

[Disaster Declaration #16666; Washington Disaster Number WA-00088]

Declaration of Economic Injury; Administrative Declaration Amendment of an Economic Injury Disaster for the State of Washington

AGENCY: U.S. Small Business Administration.

ACTION: Amendment 1.

SUMMARY: This is an amendment of an Economic Injury Disaster Loan (EIDL) declaration for the State of Washington dated 09/16/2020.

Incident: Civil Unrest.

Incident Period: 05/26/2020 through 01/28/2021.

DATES: Issued on 01/29/2021.

Economic Injury (EIDL) Loan Application Deadline Date: 06/16/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Economic Injury declaration for the State of Washington dated 09/16/2020, is hereby amended to establish the incident period for this disaster as beginning 05/26/2020 and continuing through 01/28/2021.

All other information in the original declaration remains unchanged.

(Catalog of Federal Domestic Assistance Number 59008)

Tami Perriello,
Acting Administrator.

[FR Doc. 2021-02328 Filed 2-3-21; 8:45 am]

BILLING CODE 8026-03-P